ENVIRONMENTAL PROTECTION AGENCY

[FRL-9295-7; Docket ID No. EPA-HQ-ORD-2011-0368]

Implications of Climate Change for Bioassessment Programs and Approaches To Account for Effects

AGENCY: Environmental Protection Agency (EPA).

ACTION: Notice of Peer review Workshop and Public Comment Period.

SUMMARY: EPA is announcing that Eastern Research Group, Inc. (ERG), an EPA contractor for external scientific peer review, will convene an independent panel of experts and organize and conduct an external peer review workshop to review the external review draft report titled, “Implications of Climate Change for Bioassessment Programs and Approaches to Account for Effects” (EPA/600/R-11/036A) and its supporting document, “Freshwater Biological Traits Database” (EPA/600/R-11/038). The EPA also is announcing a 30-day public comment period for both documents. These draft documents were prepared by the National Center for Environmental Assessment (NCEA) within EPA's Office of Research and Development.

The main report identifies the components of state and tribal bioassessment programs that may be affected by climate change. The study (1) Investigates the potential to identify biological response signals to climate change within existing bioassessment data from Maine, North Carolina, Ohio, and Utah; (2) analyzes how biological responses can be categorized and interpreted; and, (3) assesses how the programs may influence decision-making processes. The study focused on benthic macroinvertebrates, i.e. animals without backbones that are larger than the size of a pencil point, which are important indicators used in bioassessments of shallow rivers and streams. The ultimate goals of the main report are (1) to provide a foundation for understanding the potential climatic vulnerability of bioassessment indicators, and, (2) to advance the development of specific strategies to ensure the effectiveness of monitoring and management plans under changing conditions. The results of the study support research needs and key actions identified in the “National Water Program Strategy: A Response to Climate Change” (U.S. EPA, 2008; http://water.epa.gov/scitech/climatechange/strategy.cfm).

The public comment period and the external peer review workshop are separate processes that provide opportunities for all interested parties to comment on the documents. EPA intends to forward public comments that are submitted in accordance with this notice and received by 5 p.m. on Friday, May 6, 2011, to the external peer review panel prior to the meeting for their consideration. When finalizing the draft documents, EPA will consider all public comments received throughout the 30-day period in accordance with this notice.

EPA is releasing these draft documents solely for the purpose of pre-dissemination peer review under applicable information quality guidelines. These documents have not been formally disseminated by EPA. They do not represent and should not be construed to represent any Agency policy or determination.

ERG invites the public to register to attend this workshop as observers. In addition, ERG invites the public to give oral and/or provide written comments at the workshop regarding the draft documents under review. The draft documents and EPA's peer review charge are available primarily via the Internet on NCEA's home page under the Recent Additions and the Data and Publications menus at http://www.epa.gov/ncea. In preparing final reports, EPA will consider ERG's report of the comments and recommendations from the external peer review workshop and any public comments that EPA receives in accordance with this notice.

DATES: The peer review panel workshop will begin on Wednesday, May 11, 2011, at 8:30 a.m. and end at 4:30 p.m. The 30-day public comment period begins April 14, 2011, and ends May 16, 2011. Technical comments should be in writing and must be received by EPA by May 16, 2011.

ADDRESSES: The peer review workshop will be held at the Navy League Building, 2300 Wilson Boulevard, 1st Floor (Mtg. Rm. to the Left of Concierge Desk), Arlington, VA 22204. The EPA contractor, ERG, is organizing, convening, and conducting the peer review workshop. To attend the workshop, register by Wednesday, May 4, 2011, by calling ERG's subcontractor LCLM at 301-593-2800 (ask for Diedre Watkins), sending a facsimile to 301-593-5800 (please reference: “Bioassessment peer review workshop” and include your name, title, affiliation, full address, and contact information, and whether you wish to make oral comments), or sending an e-mail to dwatkins@lclmllc.com (subject line: “Bioassessment peer review workshop” and include your name, title, affiliation, full address, and contact information, and whether you wish to make oral comments). You may also register via the Internet at http://www.regonline.com/implicationsofclimatechangeforbioassessmentprogram.

The draft report “Implications of Climate Change for Bioassessment Programs and Approaches to Account for Effects” and its supporting draft document, “Freshwater Biological Traits Database,” are available primarily via the Internet on the National Center for Environmental Assessment's home page under the Recent Additions and the Data and Publications menus at http://www.epa.gov/ncea. A limited number of paper copies are available from the Information Management Team, NCEA; telephone: 703-347-8561; facsimile: 703-347-8691. If you are requesting a paper copy, please provide your name, mailing address, and the document titles, “Implications of Climate Change for Bioassessment Programs and Approaches to Account for Effects” and “Freshwater Biological Traits Database.” Copies are not available from ERG.

Comments may be submitted electronically via http://www.regulations.gov, by mail, by facsimile, or by hand delivery/courier. Please follow the detailed instructions as provided in the SUPPLEMENTARY INFORMATION section of this notice.

FOR FURTHER INFORMATION CONTACT: Questions regarding information, registration, access, or services for individuals with disabilities, or logistics for the external peer review workshop should be directed to ERG's subcontractor, LCLM, 1299 Lamberton Drive, Suite 205, Silver Spring, MD 20902; telephone: 301-593-2800 (ask for Diedre Watkins); facsimile: 301-593-5800; e-mail: dwatkins@lclmllc.com (subject line: Bioassessment peer-review workshop). To request accommodation of a disability, please contact LCLM (ask for Diedre Watkins), preferably at least 10 days prior to the meeting, to give as much time as possible to process your request.

For information on the public comment period, contact the Office of Environmental Information Docket; telephone: 202-566-1752; facsimile: 202-566-1753; or e-mail: ORD.Docket@epa.gov.

If you need technical information about the document, please contact Britta Bierwagen, National Center for Environmental Assessment (NCEA); telephone: 703-347-8613; facsimile: 703-347-8694; or e-mail: bierwagen.britta@epa.gov.

SUPPLEMENTARY INFORMATION:

I. Summary of Information About the Project/Documents

Bioassessment is used for resource management to determine the ecological consequences of environmental stressors. All states utilize some form of bioassessment as part of their implementation of the Clean Water Act. The report identifies the components of state and tribal bioassessment programs that may be affected by climate change. The study describes biological responses to changes in temperature, precipitation and flow that will, in the long term, affect the metrics and indices used to define ecological status. Not all regions are equally threatened or responsive because of large-scale variability in climate and other environmental factors. We found that climatically vulnerable components of bioassessment programs include:

• Assessment design (e.g., multi-metric indices [MMIs], selection of reference sites and determination of reference condition).

• Implementation (e.g., data collection and analysis).

• Environmental management (e.g., determination of impairment and water quality standards).

The main report identifies methods that can assist with detecting climate change-related effects and analytically controlling them. The appendices to the main report provide more detailed information on data, analyses and results, while the supporting document describes the compilation of a species traits database used in the analyses in the main report. Implementing the recommendations in the main report will allow programs to continue to meet their goals for resource protection and restoration in the context of climate change.

II. Workshop Information

Members of the public may attend the workshop as observers, and there will be a limited time for comments from the public during the morning session. Please let ERG's subcontractor, LCLM, know if you wish to make comments during the workshop. Space is limited, and reservations will be accepted on a first-come, first-served basis.

III. How To Submit Technical Comments to the Docket at www.regulations.gov

Submit your comments, identified by Docket ID No. EPA-HQ-ORD 2011-0368, by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center Public Reading Room is open from 8:30 a.m. to 4:30 p.m., Monday through Friday, excluding legal holidays. The telephone number for the Public Reading Room is 202-566-1744. Deliveries are only accepted during the Docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2011-0368. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: April 7, 2011.
Darrell A. Winner,
Acting Director, National Center for Environmental Assessment.

[FR Doc. 2011-9097 Filed 4-13-11; 8:45 am]

BILLING CODE 6560-50-P